DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that are being removed from the Specially Designated Nationals and Blocked Person List (SDN List).

DATES: The unblocking of property and interests in property and the removal of the individual identified in this Notice from the SDN List is effective on the date of publication in the Federal Register.

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Actions

On May 28, 2003, the individual listed below was included in the Annex to Executive Order 13304 of May 28, 2003, “Termination of Emergencies With Respect to Yugoslavia and Modification of Executive Order 13219 of June 26, 2001” and added to the SDN List. On October 20, 2023 OFAC determined that an insufficient basis exists to retain the following individual on the SDN List under this authority, and this individual should be removed from the SDN List.

Individuals

1. KARADZIC, Aleksandar (a.k.a. “SASA”); DOB 14 May 1973; POB Sarejevo, Bosnia-Herzegovina (individual) [BALKANS].

Dated: October 20, 2023.
Bradley T. Smith,
Director, Office of Foreign Assets Control, U.S. Department of the Treasury.

[FR Doc. 2023-23565 Filed 10-24-23; 8:45 am]

BILLING CODE 4810-AL-P